DEPARTMENT OF DEFENSE

Office of the Secretary

Privacy Act of 1974; System of Records

AGENCY: Office of the Secretary, DoD.

ACTION: Notice to transfer systems of records.

SUMMARY: Two Department of the Army Privacy Act systems of records are being transferred to the Department of Defense Education Activity (DoDEA), Office of the Secretary of Defense. The DoDEA is the responsible activity for maintaining records formerly maintained under A0352-3 CFSC, entitled ‘Dependent Children School Program Files’ and A0690-200 DAPE, entitled ‘School Employee File’.

The notices will now be known as DODDS 26, ‘DoD Domestic and Elementary School Program Files’ and DODDS 27, ‘DoD Domestic and Elementary School Employee File’, respectively. Before being transferred, administrative changes have been made to the system name, system location, and authority categories within the notices.

DATES: The changes will be effective on June 9, 2003, unless comments are received that would result in a contrary determination.

ADDRESSES: Send comments to OSD Privacy Act Coordinator, Records Management Section, Washington Headquarters Services, 1155 Defense Pentagon, Washington, DC 20301-1155.

FOR FURTHER INFORMATION CONTACT: Mr. Dan Cragg at (703) 601-4722.

SUPPLEMENTARY INFORMATION: The Office of the Secretary of Defense notices for systems of records subject to the Privacy Act of 1974 (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: April 30, 2003.
Patricia L. Toppings,
Alternate OSD Federal Register Liaison Officer, Department of Defense.

DODDS 26

System name:

DoD Domestic and Elementary School Program Files.

System location:

Department of Defense Domestic Elementary and Secondary Schools, 700 W. Park Drive, Peachtree City, GA 30269-1498.

Categories of individuals covered by the system:

Students in the Department of Defense Education Activity (DoDEA) dependents schools located at Fort Benning, GA; Fort Bragg, NC; Fort Campbell, KY; Fort McClellan, AL; Fort Rucker, AL; Fort Stewart, GA; and U.S. Military Academy, West Point, NY.

Categories of records in the system:

Enrollment/admission/registration/transfer applications; course preferences/curriculum; health records; attendance registers; academic achievements and report cards reflecting grades/credits earned; aptitude, intelligence quotient, and other test results; notes regarding student's special interests, hobbies, activities, sports; counseling documents; high school transcripts and certificates; and related supporting documents.

Authority for maintenance of the system:

10 U.S.C. 2164, Department of Defense Domestic Dependent Elementary and Secondary Schools; DoD Directive 1342.20, Department of Defense Education Activity (DODEA); and DoD Directive 1342.21, Department of Defense Section 6 Schools.

Purpose(s):

To record education provided for eligible dependent children of military and civilian personnel residing at Fort Benning, GA; Fort Bragg, NC; Fort Campbell, KY; Fort McClellan, AL; Fort Rucker, AL; Fort Stewart, GA; and U.S. Military Academy, West Point, NY.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to the Department of Education in connection with Federal funding for public education; to federal and state educational agencies in connection with student's application for financial aid; to student's parents/legal guardians when DoDEA officials determine a bona fide need exits.

The DoD ‘Blanket Routine Uses’ set forth at the beginning of the OSD compilation of systems of records notices also apply to this system.

Policies and practices for storing, retrieving, accessing, retaining, and disposing of records in the system:

Storage:

Paper records in file folders.

Retrievability:

By student surname.

Safeguards:

Records are accessible only to authorized personnel having need for the information in the performance of their official duties.

Retention and disposal:

Academic records for elementary school students are destroyed at the school attended after 5 years; those for secondary school students are destroyed after 65 years by the Washington National Records Center where such records are retired 5 years following student's graduation/withdrawal.

Individual student health records and tests/achievements documents are retained at the local school 1 year for elementary students; 2 years for secondary students, after which they are destroyed.

Teacher class registers of attendance and scholastic marks and averages are retained at the local school for 5 years; then destroyed.

System manager(s) and address:

Director, Department of Defense Education Activity, 4040 North Fairfax Drive, Arlington, VA 22203-1634.

Notification procedure:

Individuals seeking to determine whether information about themselves is contained in this system should address written inquiries to the principal of the school attended.

Individual should provide current full name, name used at the time of school attendance, date of birth, identity and location of school attended, dates of attendance, and signature.

Record access procedures:

Individuals seeking access to information about themselves contained in this system should address written inquiries to the principal of the school attended.

Individual should provide current full name, name used at the time of school attendance, date of birth, identity and location of school attended, dates of attendance, and signature.

Contesting records procedures:

The OSD rules for accessing records, for contesting contents and appealing initial agency determinations are contained in OSD Administrative Instruction 81; 32 CFR part 311; or may be obtained from the system manager.

Record source categories:

From the individual, school teachers, principal, counselors, medical personnel, parents/guardians.

Exemptions claimed for the system:

None.

DODDS 27

System name:

DoD Domestic and Elementary School Employee File.

System location:

Department of Defense Domestic Elementary and Secondary Schools, 700 W. Park Drive, Peachtree City, GA 30269-1498.

Categories of individuals covered by the system:

Employees of Department of Defense Dependent Schools.

Categories of records in the system:

Employment applications; personnel action forms; copies of contracts or excerpts there from which describe services to be performed; time periods involved; amount of pay; location of employment; appointment affidavits; statements of service; group life and accident insurance election; survivor benefit elections; change of name request; educational transcripts; position assignment notices; promotion/reduction recommendations with approvals/declinations; supervisor evaluations; annual, sick and/or teacher leave records; miscellaneous correspondence, documents, and records concerning dependents; military and other Federal service, including service in other Federally funded dependents schools; letters of recommendations, commendations, reprimands, counseling sessions, and conference records.

Authority for maintenance of the system:

10 U.S.C. 2164, Department of Defense Domestic Dependent Elementary and Secondary Schools; DoD Directive 1342.20, Department of Defense Education Activity (DODEA); and DoD Directive 1342.21, Department of Defense Section 6 Schools.

Purpose(s):

To maintain record of the individual's Federal service; to document actions attributable to his/her employment and status; to administer pay and other employment policies and regulations as required by Pub. L. 81-874, the U.S. Commissioner of Education, and/or respective State Departments of Education.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to authorized representatives of the Secretary of the Department of Health and Human Services and/or the Department of Education to verify that pay and employment practices in Department of Defense Education Activity are comparable to those of the school districts in the State used for comparability purposes; verification, for salary and retirement purposes of Federal employment for personnel subsequently employed by public, Federal, or private school systems.

The DoD ‘Blanket Routine Uses’ set forth at the beginning of the OSD compilation of systems of records notices also apply to this system.

Policies and practices for storing, retrieving, accessing, retaining, and disposing of records in the system:

Storage:

Paper records in file folders.

Retrievability:

By employee's surname.

Safeguards:

Records are maintained in secured areas accessible only to authorized personnel having official need therefore in the performance of official duties.

Retention and disposal:

Records are permanent. They are retained at the dependents schools until 30 days after termination of individual's service and subsequently retired to the National Personnel Records Center, St. Louis, MO 63118-4199.

System manager(s) and address:

Director, Department of Defense Education Activity, 4040 North Fairfax Drive, Arlington, VA 22203-1634.

Notification procedure:

Individuals seeking to determine whether information about themselves is contained in this system should address written inquiries to the Director, Department of Defense Education Activity, 4040 North Fairfax Drive, Arlington, VA 22203-1634.

If inquiry is made 30 days after termination of employment, it should be made to the National Personnel Records Center.

Individual should provide current name, the name used during the period of Federal employment at the school concerned, if different, date of birth, names of schools, locations, and dates of employment.

Record access procedures:

Individuals seeking access to information about themselves contained in this system should address written inquiries to the Director, Department of Defense Education Activity, 4040 North Fairfax Drive, Arlington, VA 22203-1634.

If inquiry is made 30 days after termination of employment, it should be made to the National Personnel Records Center.

Individual should provide current name, the name used during the period of Federal employment at the school concerned, if different, date of birth, names of schools, locations, and dates of employment.

Contesting record procedures:

The OSD rules for accessing records, for contesting contents and appealing initial agency determinations are contained in OSD Administrative Instruction 81; 32 CFR part 311; or may be obtained from the system manager.

Record source categories:

From the individual, notice of personal security clearance from Defense Investigative Service, appointment affidavits, copies of contracts or excerpts there from, personnel action, survivor benefit forms, education transcripts, position assignment notices, promotion/reduction recommendations with approvals/declinations, leave records, records and reports, documents from previous employers and/or other Federal agencies.

Exemptions claimed for the system:

None.

[FR Doc. 03-11572 Filed 5-8-03; 8:45 am]

BILLING CODE 5001-08-P